DEPARTMENT OF AGRICULTURE

Forest Service

Salmon-Challis National Forest, Butte, Custer and Lemhi Counties, ID, Supplemental Environmental Impact Statement to the 2009 Salmon-Challis National Forest Travel Planning and OHV Route Designation Project Final EIS

AGENCY: Forest Service, USDA.

ACTION: Notice of intent to prepare a supplemental environmental impact statement.

SUMMARY: The Salmon-Challis National Forest announces its intent to prepare a supplemental environmental impact statement (SEIS) and revised record of decision (ROD) to the 2009 Salmon-Challis National Forest Travel Planning and OHV Route Designation Project FEIS and ROD as ordered by the District Court of Idaho in a February 4, 2011, memorandum decision and order. The order was filed in response to a January 22, 2010, complaint from The Wilderness Society and the Idaho Conservation League challenging the 2009 decision. Supplemental analysis to correct deficiencies identified by the Court could change the designation of some routes and areas currently open for motor vehicle use and/or change the types of motor vehicle uses and/or seasonal open periods allowed on roads, trails and areas authorized under the 2009 Travel Plan. Any motor vehicle route designation changes resulting from new or supplemental analysis would be dcoumented in a revised record of decision in addition to Court ordered instructions to clarify that a minimum road system determination has not been made (as stated in the original ROD).

DATES: Scoping will not be conducted in accordance with 40 CFR 1502.9(c)(4). The draft supplemental environmental impact statement is expected in early September 2012 and the final supplemental environmental impact statement is expected in late December 2012. There will be a 45-day comment period after the draft supplemental environmental impact statement is issued.

ADDRESSES: Send written comments to Frank Guzman, Forest Supervisor, 1206 South Challis Street, Salmon, Idaho 83467. Comments may also be sent via email to comments-intermtn-salmon-challis@fs.fed.us or by facsimile to 208-756-5151.

FOR FURTHER INFORMATION CONTACT: Karen Gallogly, Interdisciplinary Team Leader, at kgallogly@fs.fed.us or (208) 756-5103.

Individuals who use telecommunication devices for the deaf (TDD) may call the Federal Information Relay Service (FIRS) at 1-800-877-8339 between 8 a.m. and 8 p.m., Eastern Time, Monday through Friday.

SUPPLEMENTARY INFORMATION:

Purpose and Need for Action

The purpose and need for the Salmon-Challis National Forest Travel Planning and OHV Designation Project Supplemental EIS is to clarify and revise sections of the analysis conducted for the original 2009 FEIS to correct deficiencies identified by the District Court of Idaho in their February 4, 2011, memorandum decision and order and determine if changes to motor vehicle route designations made in the 2009 ROD are warranted based on supplemental analysis.

To correct the deficiencies, there is a need to (1) analyze the cumulative impacts of multiple short motor vehicle routes on wilderness values and roadless characteristics in Recommended Wilderness Areas (RWAs) and Idaho Roadless Areas (IRAs) to comply with the National Environmental Policy Act (NEPA). The cumulative effects of multiple routes less than one-half mile in length in RWAs and IRAs were not analyzed in the 2009 FEIS because it was thought the “intrusions into roadless areas were minimally intrusive and not likely to affect wilderness values”. The Court rejected this rationale; (2) demonstrate how the Forest Service applied criteria for the designation of roads, trails and areas with the objective of minimizing damage to soil, watershed, vegetation, and other forest resources; harassment of wildlife and significant disruptions of wildlife habitats; conflicts between motor vehicle uses and existing or proposed recreational uses of National Forest System lands or neighboring Federal lands; and conflicts among different classes of motor vehicle uses of National Forest System lands or neighboring Federal lands in compliance with section 212.55 of the Travel Management Rule (36 CFR 212.55); (3) respond to Plaintiff's site-specific comments raised during the legal comment period for the Draft EIS to comply with the NEPA, and (4) include specific language in the revised ROD to clarify a minimum road system determination was not made in the 2009 Travel Plan decision.

Proposed Action

(1.) Analyze the cumulative effects of multiple routes less than one-half mile in length in RWAs and IRAs to wilderness values and roadless characteristics and determine if motor vehicle route designation changes to the 2009 Travel Plan are warranted based on supplemental analysis. 103 routes less than one-half mile in length, totaling 14.91 miles within 24 IRAs and RWAS were identified in the 2009 FEIS; however the cumulative impacts of these routes were not considered. Errors regarding the number and length of all routes in RWAs and IRAs have been identified since 2009. An analysis of effects of all routes in RWAs and IRAs would be conducted and disclosed in the SEIS. Thirty-seven routes totaling 6.68 miles within RWAs and IRAs were inadvertently overlooked and associated effects were not analyzed or disclosed in the 2009 FEIS. Of these 37 routes, 29 are less than one-half mile in length totaling 3.21 miles. These will be included in the supplemental analysis of cumulative effects of routes less than one-half mile in length. Thirteen routes totaling 2.80 miles were designated for use in the 2009 ROD; however these routes did not meet safety specifications or were causing resource damage and were not delineated on the Motor Vehicle Use Map. (2.) Explain how the Forest Service applied the minimization criteria to 2009 motor vehicle route designations to comply with the Travel Management Rule (36 CFR 212.55) and determine if motor vehicle route designation changes are warranted. (3.) Respond to Plaintiffs site specific comments for 113 routes provided during the legal comment period for the DEIS and determine if route designation changes are warranted. Plaintiff's provided monitoring information, photographs and descriptive comments for 113 routes proposed for designated motor vehicle use. Reconsideration of these comments, evaluation of road and trail maintenance, and application of the minimization criteria could change route designations in the revised ROD. (4.) Prepare a Revised ROD documenting any motor vehicle route designations made as a result of supplemental analysis and include language that a minimum road system determination was not made in the 2009 decision.

The supplemental information presented in the SEIS will replace the corresponding information in the August 2009 Salmon-Challis National Forest Travel Planning and OHV Designation Project FEIS. For example, the revised analysis of effects for routes in Idaho Roadless Areas and Recommended Wilderness Areas will replace the roadless and recommended wilderness environmental effects section of the FEIS. Similarly, the public comments and agency responses section of the SEIS will replace the public comments and agency responses section of the FEIS. Other areas of the analysis that are not identified for supplementation within the SEIS will remain unaltered from its presentation in the FEIS. In this manner the SEIS and FEIS will be companion documents.

Responsible Official

The Salmon-Challis National Forest Supervisor, Frank Guzman, is the responsible official.

Nature of Decision To Be Made

The decisions to be made in the revised ROD are similar to the decisions made in the original August 2009 ROD, although the scope of the analysis is narrower and fewer decisions will be made. Given the Purpose and Need, the Forest Supervisor will determine if analysis disclosed in the SEIS to comply with the Court Order will

(1.) Change the designation of some routes and areas open for motor vehicle use under the 2009 Travel Plan, and

(2.) Change the types of use and/or seasonal open period on these roads, trails and areas.

Dated: February 27, 2012.
Frank V. Guzman,
Forest Supervisor.

[FR Doc. 2012-5219 Filed 3-2-12; 8:45 am]

BILLING CODE 3410-11-P